DEPARTMENT OF HEALTH AND HUMAN SERVICES

Office of the Secretary

Agency information collection activities: Submission for OMB review; comment request

The Department of Health and Human Services, Office of the Secreatry publishes a list of information collections it has submitted to the Office of Management and Budget (OMB) for clearance in compliance with the Paperwork Reduction Act of 1995 (44 U.S.C. Chapter 35) and 5 CFR 1320.5. The following are those information collections recently submitted to OMB.

1. National Study of Child Protective Services Systems and Reform Efforts—NEW—The Office of the Assistant Secretary for Planning and Evaluation is proposing to conduct a study which will document the evolving practices underway in the field of Child Protective Services (CPS). Specifically, State Officials will be interviewed to obtain an updated picture of current policy; a stratified random sample of 150 local CPS agencies will be surveyed and; on-site visits will be conducted at 9-12 local CPS agencies that have implemented innovative practices in their delivery of services. Respondent: State or Local Governments.

Burden Estimates
Instrument | Number of respondents | Responses | Hours per response | Total hours
State CPS Directors | 63 | 1 | 2 | 126
Local Survey—Administration | 158 | 1 | .5 | 79
Local Survey—Intake | 158 | 1 | 1 | 158
Local Survey—Investigation | 233 | 1 | 1 | 233
Local Survey—Other CPS Resp | 100 | 1 | 1 | 100
Local Survey—New Directions | 188 | 1 | 1 | 188
Site Visit—Director Interview | 12 | 1 | 1 | 12
Site Visit—Managers | 16 | 1 | 2 | 32
Site Visit—Worker Focus Group | 80 | 1 | 2 | 160
Site Visit—External Managers | 48 | 1 | 2 | 96
Site Visit—Policy Review Group | 48 | 1 | 2 | 96
Estimated Burden Total |  |  |  | 1,288

OMB Desk Officer: Allison Herron Eydt.

Copies of the information collection packages listed above can be obtained by calling the OS Reports Clearance Officer on (202) 690-6207. Written comments and recommendations for the proosed information collection should be sent directly to the OMB desk officer designated above at the following address: Human Resources and Housing Branch, Office of Management and Budget, New Executive Office Building, Room 10235, 725 17th street NW., Washington, DC 20503.

Comments may also be sent to Cynthia Agens Bauer, OS Reports Clearance Officer, Room 503H, Humphrey Building, 200 Independence Avenue SW., Washington DC, 20201. Written comments should be received within 30 days of this notice.

Dated: August 14, 2001.
Kerry Weems,
Acting Deputy Assistant Secretary, Budget.

[FR Doc. 01-21143 Filed 8-21-01; 8:45 am]

BILLING CODE 4154-05-M